DEPARTMENT OF THE TREASURY

Office of Thrift Supervision

New South Federal Savings Bank Irondale, AL; Notice of Appointment of Receiver

Notice is hereby given that, pursuant to the authority contained in section 5(d)(2) of the Home Owners' Loan Act, the Office of Thrift Supervision (OTS) has duly appointed the Federal Deposit Insurance Corporation as sole Receiver for New South Federal Savings Bank, Irondale, Alabama (OTS No. 08083), on December 18, 2009.

Dated: December 23, 2009.
By the Office of Thrift Supervision.
Sandra E. Evans,
Federal Register Liaison.

[FR Doc. E9-30955 Filed 12-30-09; 8:45 am]

BILLING CODE 6720-01-M